DEPARTMENT OF THE INTERIOR

Bureau of Land Management

[LLCAN06000.L58740000.EU0000.LXSS007B0000; CACA 49825]

Notice of Realty Action: Direct Sale of Public Lands in Tehama County, CA

AGENCY: Bureau of Land Management, Interior.

ACTION: Notice of realty action.

SUMMARY: The Bureau of Land Management (BLM) proposes to sell a 70.72-acre parcel of public land in Tehama County, California, to the owners of the surrounding private land for the appraised fair market value of $28,000. The private land surrounding the public land is owned by W. James Edwards, trustee of the James Edwards Revocable Trust, Nancy E. Weber, trustee of the Nancy E. Weber Revocable Trust, and Dale E. Smith, trustee of the Lorraine W. Edwards Generation Skipping Trust, collectively the Trustees.

DATES: Comments regarding the proposed sale must be received by the BLM on or before February 19, 2010.

ADDRESSES: Written comments concerning the proposed sale should be sent to Steve Anderson, BLM Redding Field Manager, 355 Hemsted Drive, Redding, California 96002.

FOR FURTHER INFORMATION CONTACT: Ilene Emry, Realty Specialist, BLM, Redding Field Office, 355 Hemsted Dr., Redding, California 96002 or phone (530) 224-2100.

SUPPLEMENTARY INFORMATION: The following described public land is being proposed for direct sale to the Trustees in accordance with Sections 203 and 209 of the Federal Land Policy and Management Act of 1976, as amended (43 U.S.C. 1713), at not less than the appraised fair market value: Mount Diablo Meridian, T. 27 N., R. 2 W., Sec. 8, lots 3, 4, and 5.

The area described contains 70.72 acres in Tehama County and its appraised fair market value is $28,000. The public land is identified as suitable for disposal in the BLM Redding Resource Management Plan (RMP) approved July 27, 1993, and is not needed for any other Federal purpose.

The BLM is proposing a direct sale because the public lands lack legal access and are completely surrounded by private lands owned by the Trustees. A competitive sale is therefore not appropriate and the public interest would be best served by a direct sale. The lands identified for sale are considered to have no known mineral value except for oil and gas, which the BLM proposes to reserve to the United States. The BLM proposes that conveyance of the Federal mineral interests, with the exception of oil and gas, would occur simultaneously with the sale of the land.

On December 15, 2008, the above described land was segregated from appropriation under the public land laws, including the mining laws. The segregation terminates upon issuance of a patent, publication in the Federal Register of a termination of the segregation, or 2 years from the date of segregation, whichever occurs first. The lands will not be sold until at least 60 days after the date of publication of this notice in the Federal Register. The Trustees would be required to pay a $50 nonrefundable filing fee for conveyance of the available mineral interests. Any patent issued will contain the following terms, conditions, and reservations:

a. A reservation of a right-of-way to the United States for ditches and canals constructed by authority of the United States under the Act of August 30, 1890 (43 U.S.C. 945);

b. A reservation of all oil and gas to the United States, together with the right of the United States, its permittees, licensees, and lessees to use the surface of the land to prospect for, mine, and remove the oil and gas under regulations prescribed by the Secretary of the Interior;

c. A condition that the conveyance be subject to all valid existing rights of record;

d. A notice and indemnification statement under the Comprehensive Environmental Response, Compensation and Liability Act (42 U.S.C. 9620(W), indemnifying, and holding the United States harmless from any release of hazardous materials that may have occurred; and

e. Additional terms and conditions that the authorized officer deems appropriate. Detailed information concerning the proposed land sale including the appraisal, planning and environmental documents, and a mineral report are available for review at the location identified in ADDRESSES above.

Public comments regarding the proposed sale may be submitted in writing to the attention of the BLM Redding Field Manager (see ADDRESSES above) on or before February 19, 2010. Comments received in electronic form, such as e-mail or facsimile, will not be considered. Any adverse comments regarding the proposed sale will be reviewed by the State Director or other authorized official of the Department, who may sustain, vacate, or modify this realty action in whole or in part. In the absence of timely filed objections, this realty action will become the final determination of the Department of the Interior. Before including your address, phone number, e-mail address, or other personal identifying information in your comment, be advised that your entire comment—including your personal identifying information—may be made publicly available at any time. While you can ask us in your comment to withhold from public review your personal identifying information, we cannot guarantee that we will be able to do so.

(Authority: 43 CFR 2711.1-2(a) and (c))

Tom Pogacnik,
Deputy State Director for Natural Resources.

[FR Doc. E9-31237 Filed 1-4-10; 8:45 am]

BILLING CODE 4310-40-P